DEPARTMENT OF AGRICULTURE

Forest Service

Apalachicola National Forest; Apalachicola Ranger District, Florida; Beasley Pond Analysis Area

AGENCY: Forest Service, USDA.

ACTION: Notice of intent to prepare an environmental impact statement.

SUMMARY: The Forest Service will prepare an Environmental Impact Statement (EIS) to analyze the impacts of timber harvest and associated activities on approximately 3,800 acres of forestland and savannahs in the Beasley Pond Analysis Area. Based on public scoping, discussion with other federal agencies and initial issues analysis, the responsible official has determined that preparation of an EIS is appropriate for this project. The proposed project is an activity implementing a land management plan and is subject to the pre-decisional objection process at 36 CFR part 218 subparts A and B.

DATES: Comments concerning the scope of the analysis must be received by November 10, 2014. The draft EIS is expected December 2014 and the final EIS is expected March 2015.

ADDRESSES: Send written comments to Marcus Beard, District Ranger, 57 Taff Drive, Crawfordville, FL 32327. Comments may also be sent via email to comments-southern-florida-apalachicola@fs.fed.us, or via facsimile to (850) 926-1904.

FOR FURTHER INFORMATION CONTACT: Branden Tolver—phone: (850) 926-3561; email: btolver02@fs.fed.us. Individuals who use telecommunication devices for the deaf (TDD) may call the Federal Information Relay Service (FIRS) at 1-800-877-8339 between 8 a.m. and 8 p.m., Eastern Time, Monday through Friday.

Purpose and Need for Action

The National Forests in Florida's Forest Plan outlines several goals for the National Forests of Florida, one of which calls for the conservation and protection of declining natural communities, and uncommon biological, ecological, or geological site. The Beasley Pond Analysis area contains large areas of historical savannah habitat, multiple red-cockaded woodpecker (RCW) clusters, critical habitat for the frosted flatwoods salamander and recent records of three federally listed plant species that occur in open savannah habitats. The primary purpose of this project is to maintain, improve, and restore a healthy forest ecosystem by: Thinning both longleaf and slash pine stands to allow for further tree growth, restoring remnant savannahs to improve habitat for a variety of plant species, and controlling overabundant hardwood trees and brush species to restore herbaceous groundcover. Secondary benefits include maintaining a stable RCW habitat and improving the current transportation system. There is a need to reduce current stocking levels of stands within the project area to open the forest canopy and promote herbaceous groundcover growth and establishment. There also exists a need for rehabilitation and maintenance in declining natural savannah sites in the project area.

Proposed Action

First or intermediate thinning of approximately 1981 acres of slash and longleaf pine stands. Stands range in age from 25 to 141 years old. Younger slash and longleaf pine plantations have a basal area (BA) ranging from 70 to 173 square-feet per acre. Thinning these stands would reduce the BA to an average of 50 square feet per acre thus opening the stands for sunlight penetration needed for continued growth and groundcover establishment.

Conduct uneven-aged management cuts on 978 acres of mature longleaf pine. Openings ranging from ¼-2 acres (average size of ½ acre) in size will be created around existing longleaf seedlings or in areas of the stand that would be suitable for longleaf natural regeneration. The number of openings would be limited to 10% of the stand size. Stand 7 of compartment 28 (91 acres) will be treated with a foliar application of triclopyr (as needed) for hardwood control.

Savannah restoration treatments on approximately 811 acres of savannah sites to remove pine trees and encroaching hardwoods. Girdling will be used in stands that cannot be accessed for traditional logging operations (stands 19 and 41 in compartment 26 and stand 37 in compartment 27). All of these sites have either been planted with slash pine or have been encroached upon by woody brush species and hardwood tree species. To restore these savannah sites a variable residual BA strategy will be implemented with groundcover condition serving as the trigger point for thinning intensity. More herbaceous groundcover is needed when thinning to a lower BA in order to continue the use prescribed fire as a means of maintaining the open park-like structure associated with savannahs. When groundcover conditions are deemed less than adequate to carry fire the Forest Service proposes to leave a higher residual BA of 40 square feet per acre in order to allow pine needle cast to serve as primary carrier of fire across the stand.

Spot foliar application of the herbicide triclopyr (as needed) on 811 acres of savannah restoration sites for site hardwood control. This is not a broadcast application of herbicide. Spot treatment would occur only where there is a presence of woody vegetation that threatens the re-establishment of savannah plant species. If the savannah restoration areas do not show evidence of woody encroachment after harvest it will not receive herbicide treatment.

Clearcut 16 acres of slash pine plantation for borrow pit excavation to provide surface material for future road work.

Remove six cattle guards from a closed range allotment (two on highway 379, two on FSR 113, and one on FSRs 174 and 109).

Possible Alternatives

Three potential alternatives will be evaluated in the EIS. The first is the No Action alternative which will consist of no treatments in the proposed project area other than those already approved such as prescribed burning or non-native invasive species control. The second alternative addresses the impact to the environment if no herbicides were used and treatments such as hardwood control were done by mechanical means. The third alternative would remove all proposed savannah treatments in the project area. Additional alternatives may also be added as we move through the planning process.

Responsible Official

Marcus Beard, District Ranger for the Apalachicola National Forest

Nature of Decision To Be Made

Based upon the effects of the alternatives, the responsible official will decide whether or not to implement the Proposed Action or one of the possible alternatives.

Preliminary Issues

1. Impact of timber removal on species listed as threatened or endangered under the Endangered Species Act of 1973.

2. Impact of borrow pit excavation on 16 acres of forested land.

Scoping Process

This notice of intent reinitiates the scoping process, which was started with a public scoping notice sent to interested parties in June 2013. Pursuant to 36 CFR part 218 subparts A and B, a draft EIS will be made available for the 45-day notice and comment period. A final EIS and draft Record of Decision will be made available for a 45-day objection period.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however, they will not have standing to object.

Dated: October 1, 2014.
Marcus Beard,
District Ranger.

[FR Doc. 2014-24191 Filed 10-9-14; 8:45 am]

BILLING CODE 3410-11-P